OFFICE OF PERSONNEL MANAGEMENT

Proposed Collection; Comment Request for Review of a Revised Information Collection: Federal Employees Health Benefits (FEHB) Open Season Express Interactive Voice Response (IVR) System

AGENCY: Office of Personnel Management.

ACTION: Notice.

SUMMARY: In accordance with the Paperwork Reduction Act of 1995 (Public Law 104-13, May 22, 1995), this notice announces that the Office of Personnel Management (OPM) intends to submit to the Office of Management and Budget a request for review of a revised information collection. The FEHB Open Season Express IVR System collects the following information from annuitants and survivors: Retirement Claim Number (CSA or CSF), Personal Identification Number (PIN), FEHB plan code for requesting plan brochures, FEHB plan code for making an enrollment change, and dependent information for self and family enrollments. Annuitants and survivors may request a copy of the FEHB Customer Satisfaction Survey results, cancel or suspend FEHB benefits, request payment directly to OPM where FEHB payment is greater than the monthly annuity amount, or request a change of address through the IVR system.

Comments are particularly invited on: whether this information is necessary for the proper performance of functions of OPM, and whether it will have practical utility; whether our estimate of the public burden of this collection of information is accurate, and based on valid assumptions and methodology; and ways in which we can minimize the burden of the collection of information on those who are to respond, through the use of appropriate technological collection techniques or other forms of information technology.

Approximately 75,000 requests will be completed annually. Each request takes approximately 10 minutes to complete. The annual estimated burden is 12,525 hours.

For copies of this proposal, contact Mary Beth Smith-Toomey on (202) 606-8358, or E-mail to mbtoomey@opm.gov

DATES: Comments on this proposal should be received on or before September 1, 2000.

ADDRESSES: Send or deliver comments to—James K. Freiert, Chief, Retirement Services Division, Retirement and Insurance Service, U.S. Office of Personnel Management 1900 E Street, NW, Room 1312, Washington, DC 20415.

For Information Regarding Administrative Coordination—Contact: Donna G. Lease, Team Leader, Forms Analysis and Design, Budget and Administrative Services Division, (202) 606-0623.

U.S. Office of Personnel Management.
Janice R. Lachance,
Director.

[FR Doc. 00-16710 Filed 6-30-00; 8:45 am]

BILLING CODE 6325-01-U